DEPARTMENT OF COMMERCE

National Telecommunications and Information Administration

Broadband Grant Programs Technical Assistance Sessions

AGENCY: National Telecommunications and Information Administration, U.S. Department of Commerce.

ACTION: Notice.

SUMMARY: The National Telecommunications and Information Administration (NTIA) will host Technical Assistance (TA) sessions in connection with the Connecting Minority Communities (CMC) Pilot Program authorized and funded by the Consolidated Appropriations Act, 2021. The CMC TA Sessions are designed to help prospective applicants understand the eligibility and programmatic requirements of the CMC Pilot Program and to assist applicants prepare high quality grant applications before the application deadline on December 1, 2021 at 11:59 p.m. Eastern Standard Time (EST). The CMC program team will address live questions during these technical assistance sessions to aid prospective CMC Pilot Program applicants.

DATES: NTIA will offer 60-minute CMC TA Sessions on the following dates:

• November 17, 2021 at 2:30pm EST

• November 18, 2021 at 2:30pm EST

ADDRESSES: The CMC TA Sessions will be hosted via NTIA's virtual platform and conducted as a live webinar. NTIA will post the registration information on its BroadbandUSA website at https://broadbandusa.ntia.doc.gov/events/latest-events.

FOR FURTHER INFORMATION CONTACT: Maci Morin, National Telecommunications and Information Administration, U.S. Department of Commerce, Room 4872, 1401 Constitution Avenue NW, Washington, DC 20230; telephone: (202) 482-4884; email: BroadbandUSAwebinars@ntia.gov. Please direct media inquiries to NTIA's Office of Public Affairs, (202) 482-7002; email press@ntia.gov.

SUPPLEMENTARY INFORMATION: Division N, Title IX—Broadband internet Access Service, of the Consolidated Appropriations Act, 2021 (Pub. L. 116-260) authorized and funded three new broadband grant programs to be administered by NTIA: The Broadband Infrastructure Program, the Tribal Broadband Connectivity Program, and the Connecting Minority Community Pilot Program. On March 19, 2021, NTIA published a Notice in the Federal Register announcing a webinar series designed to help prospective applicants understand the grant programs and to assist applicants to prepare high quality grant applications. See NTIA, Notice of Open Meetings—NTIA Broadband Grant Programs Webinars, 86 FR 14882 (March 19, 2021); NTIA, Notice of Change to Schedule for Open Meetings—NTIA Broadband Grant Programs Webinars, 86 FR 18965 (April 12, 2021). Additionally, on July 6, 2021, NTIA published a Notice in the Federal Register announcing a continuation of the webinar series, scheduling an additional 12 public webinar opportunities. See NTIA, Notice of Open Meetings, 86 FR 35496 (July 6, 2021). Participants have communicated that they found the webinars to be informative in understanding the rules associated with the programs.

NTIA seeks to continue to provide technical assistance to potential applicants of the CMC Pilot Program through TA sessions. Details about specific TA sessions, their content, and session registration information will be posted on the BroadbandUSA website at https://broadbandusa.ntia.doc.gov/events/latest-events.

These CMC TA Sessions are subject to change. Session time changes will be posted on the BroadbandUSA website at https://broadbandusa.ntia.doc.gov/events/latest-events. Any CMC TA Session cancellations will also be posted on the same website. Any date change to a scheduled CMC TA Sessions will be provided in a notice in the Federal Register.

The presentation and recording of each CMC TA Session will be posted on the BroadbandUSA website at https://broadbandusa.ntia.doc.gov/ and NTIA's YouTube channel at: https://www.youtube.com/ntiagov within seven (7) days following the live session.

The public is invited to participate in these CMC TA Sessions. The sessions are open to the public and press. Pre-registration is required as space is limited to the first 1000 participants. NTIA asks each registrant to provide their first and last name, city, state, zip code, job title, organization and email address for registration purposes.

Individuals requiring accommodations, such as sign language interpretation or other ancillary aids, are asked to notify the NTIA contact listed above at least ten (10) business days before the session. General questions and comments are welcome via email to BroadbandUSAwebinars@ntia.gov.

Dated: October 25, 2021.
Kathy Smith,
Chief Counsel, National Telecommunications and Information Administration.

[FR Doc. 2021-23544 Filed 10-28-21; 8:45 am]

BILLING CODE 3510-60-P